DEPARTMENT OF STATE

[Public Notice:11326]

Designation of Abdul Malik al-Houthi, Abd al-Khaliq Badr al-Din al-Houthi, and Abdullah Yahya al Hakim as Specially Designated Global Terrorists

Acting under the authority of and in accordance with section 1(a)(ii)(B) of Executive Order 13224 of September 23, 2001, as amended by Executive Order 13268 of July 2, 2002, Executive Order 13284 of January 23, 2003, and Executive Order 13886 of September 9, 2019, I hereby determine that the persons known as Abdul Malik al-Houthi, also known as Abdul-Malik al-Houthi, also known as Abdel-Malek al-Houthi, also known as Abdel-Malik al-Houthi, also known as Abdulmalik Bin Bader Al-Deen al-Houth, also known as Abdul Malik Badruddin Ameerudin Hussain al-Houthi; Abd al-Khaliq Badr al-Din al-Houthi, also known as Abdul Khaliq Badreddin al-Houthi, also known as Abd al-Khaliq al-Houthi, also known as Abd-al-Khaliq al-Huthi, also known as Abd-al-Khaliq Badr-al-Din al-Huthi, also known as `Abd al-Khaliq Badr al-Din al-Huthi, also known as Abu-Yunus; and Abdullah Yahya al Hakim, also known as Abu Ali al Hakim, also known as Abu-Ali al-Hakim, also known as Abdallah al-Hakim, also known as Abu Ali Alhakim, also known as Abdallah al-Mu'ayyad, are leaders of Ansarallah, a group whose property and interests in property are concurrently blocked pursuant to a determination by the Secretary of State pursuant to Executive Order 13224.

Consistent with the determination in section 10 of Executive Order 13224 that prior notice to persons determined to be subject to the Order who might have a constitutional presence in the United States would render ineffectual the blocking and other measures authorized in the Order because of the ability to transfer funds instantaneously, I determine that no prior notice needs to be provided to any person subject to this determination who might have a constitutional presence in the United States, because to do so would render ineffectual the measures authorized in the Order.

This notice shall be published in the Federal Register.

Dated: January 12, 2021.
Michael R. Pompeo,
Secretary of State.

[FR Doc. 2021-01002 Filed 1-15-21; 8:45 am]

BILLING CODE 4710-AD-P